DEPARTMENT OF THE INTERIOR

National Park Service

36 CFR Part 13

[NPS-AKRO-25874; PPAKAKROZ5, PPMPRLE1Y.L00000]

RIN 1024-AE38

Alaska; Hunting and Trapping in National Preserves—Extension of Public Comment Period

AGENCY: National Park Service, Interior.

ACTION: Proposed rule; extension of public comment period.

SUMMARY: The National Park Service is extending the public comment period for the proposed rule to amend its regulations for sport hunting and trapping in National Preserves in Alaska. Extending the comment period for 45 days will allow more time for the public to review the proposal and submit comments.

DATES: The comment period for the proposed rule published on May 22, 2018 (83 FR 23621), is extended. Comments must be received by 11:59 p.m. EST on September 6, 2018.

ADDRESSES: You may submit comments, identified by Regulation Identifier Number (RIN) 1024-AE38, by either of the following methods:

• Federal eRulemaking Portal: http://www.regulations.gov. Follow the instructions for submitting comments.

• Mail or hand deliver to: National Park Service, Regional Director, Alaska Regional Office, 240 West 5th Ave., Anchorage, AK 99501.

• Instructions: Comments will not be accepted by fax, email, or in any way other than those specified above. All submissions received must include the words “National Park Service” or “NPS” and must include the docket number or RIN (1024-AE38) for this rulemaking. Comments received will be posted without change to http://www.regulations.gov, including any personal information provided.

• Docket: For access to the docket to read background documents or comments received, go to http://www.regulations.gov and enter “1024-AE38” in the search box.

FOR FURTHER INFORMATION CONTACT: Herbert C. Frost, Regional Director, Alaska Regional Office, 240 West 5th Ave., Anchorage, AK 99501. Phone (907) 644-3510. Email: AKR_Regulations@nps.gov.

SUPPLEMENTARY INFORMATION: On May 22, 2018, the National Park Service (NPS) published in the Federal Register (83 FR 23621) a proposed rule to amend its regulations for sport hunting and trapping in National Preserves in Alaska. This proposed rule would remove a regulatory provision issued by the NPS in 2015 that prohibited certain sport hunting practices that are otherwise permitted by the State of Alaska. These proposed changes are consistent with Secretary of the Interior Orders 3347 and 3356. The public comment period for this proposal is scheduled to close on July 23, 2018. In order to give the public additional time to review and comment on the proposal, the NPS is extending the public comment period for 45 days until September 6, 2018. If you already commented on the proposed rule you do not have to resubmit your comments.

P. Daniel Smith,
Deputy Director, Exercising the Authority of the Director.

[FR Doc. 2018-15420 Filed 7-18-18; 8:45 am]

BILLING CODE 4310-EJ-P